DEPARTMENT OF LABOR

Occupational Safety and Health Administration

[Docket No. OSHA-2019-0004]

Gestamp West Virginia LLC: Notice of Correction to Permanent Variance

AGENCY: Occupational Safety and Health Administration (OSHA), Labor.

ACTION: Notice; correction.

SUMMARY: The Occupational Safety and Health Administration (OSHA) published a notice in the Federal Register on March 2, 2021, announcing a permanent variance to Gestamp West Virginia LLC from a specific provision of the OSHA standard that regulates the control of hazardous energy (lockout/tagout). The document contained incorrect references to the relevant provision of the lockout/tagout standard. This notice corrects the provision of the standard referenced in the permanent variance.

DATES: The correction specified by this notice becomes effective on November 29, 2021 and shall remain in effect until OSHA revokes this permanent variance.

FOR FURTHER INFORMATION CONTACT: Kevin Robinson, Director, Office of Technical Programs and Coordination Activities, Directorate of Technical Support and Emergency Management, Occupational Safety and Health Administration, U.S. Department of Labor; phone: (202) 693-2110 or email: robinson.kevin@dol.gov.

SUPPLEMENTARY INFORMATION:

Corrections

In the Federal Register of March 2, 2021 (86 FR 12209-12217), correct the standard paragraph number as described below.

1. On page 12212, in the third column, in the section titled “III. Description of Conditions Specified for the Permanent Variance”, in the paragraph beginning “As previously indicated in this notice,” change “paragraph 1910.147(d)(4)(iii)” to “paragraph 1910.147(d)(3)”.

2. On page 12212, in the third column, in the section titled “III. Description of Conditions Specified for the Permanent Variance”, in the paragraph beginning “During the period starting with the August 5, 2020,” change “paragraph 1910.147(d)(4)(iii)” to “paragraph 1910.147(d)(3)”.

3. On page 12212, in the third column, in the section titled “III. Description of Conditions Specified for the Permanent Variance”, in the paragraph beginning “This section describes the conditions that comprise”, change “29 CFR 1910.147(d)(4)(iii)” to “29 CFR 1910.147(d)(3)”.

4. On page 12214, in the third column, in the section titled “IV. Decision”, in the paragraph beginning “As described earlier in this notice,” change “paragraphs 1910.147(d)(4)(iii)” to “paragraph 1910.147(d)(3)”.

5. On page 12214, in the third column, in the section titled “IV. Decision”, in the paragraph beginning “Further, under section 6(d) of the OSH Act”, change “paragraph 1910.147(d)(4)(iii)” to “paragraph 1910.147(d)(3)”.

6. On page 12215, in the first column, in the section titled “V. Order”, in the paragraph beginning “OSHA issues this final order” change “paragraphs 1910.147(d)(4)(iii)” to “paragraph 1910.147(d)(3)”.

The permanent variance granted to Gestamp remains in effect. This correction is being issued to clarify that the permanent variance is granted to paragraph 1910.147(d)(3) of the lockout/tagout standard, “Machine or equipment isolation. All energy isolating devices that are needed to control the energy to the machine or equipment shall be physically located and operated in such a manner as to isolate the machine or equipment from the energy source(s).” The conditions and scope of the permanent variance remain unchanged.

Authority and Signature

James S. Frederick, Deputy Assistant Secretary of Labor for Occupational Safety and Health, 200 Constitution Avenue NW, Washington, DC 20210, authorized the preparation of this notice. Accordingly, the agency is issuing this notice pursuant to 29 U.S.C. 655(d), Secretary of Labor's Order No. 8-2020 (85 FR 58393, Sept. 18, 2020), and 29 CFR 1910.5.

Signed at Washington, DC, on November 22, 2021.
James S. Frederick,
Deputy Assistant Secretary of Labor for Occupational Safety and Health.

[FR Doc. 2021-25895 Filed 11-26-21; 8:45 am]

BILLING CODE 4510-26-P